DEPARTMENT OF HEALTH AND HUMAN SERVICES

Substance Abuse and Mental Health Services Administration

Notice of Meeting

Pursuant to Public Law 92-463, notice is hereby given that the Substance Abuse and Mental Health Services Administration's (SAMHSA) Center for Substance Abuse Prevention's (CSAP) Drug Testing Advisory Board (DTAB) will convene via in person and web conference on December 4, 2018, from 9:00 a.m. EST to 3:30 p.m. EST and December 5, 2018, from 9:00 a.m. EST to 4:00 p.m.

The Board will meet in open-session in-person on December 4, 2018, from 9:00 a.m. EST to 3:30 p.m. EST to discuss the proposed Mandatory Guidelines for Federal Workplace Drug Testing Programs (urine specimens) with updates from the Department of Transportation, Nuclear Regulatory Commission, and the Department of Defense. There will be additional presentations from the Division of Workplace Programs' staff on urine, oral fluid, hair Mandatory Guidelines and future direction, updates on electronic chain of custody and standard variables, and emerging issues surrounding marijuana legalization. The board will meet in closed-session in-person on December 5, 2018, from 9:00 a.m. EST to 4:00 p.m. EST to discuss confidential issues surrounding the proposed Mandatory Guidelines for Federal Workplace Drug Testing Programs (urine specimens, oral fluid, hair), invalids, studies from Johns Hopkins Behavioral Pharmacology Research Unit, impact of cannabis laws on drug testing and future direction, potential recommendations to the Assistant Secretary for Mental Health and Substance Use regarding additional drugs that may be tested for in the future, and lastly, program financials. Therefore, the December 5, 2018, meeting is closed to the public, as determined by the Assistant Secretary for Mental Health and Substance Use, SAMHSA, in accordance with 5 U.S.C. 552b(c)(4) and (9)(B), and 5 U.S.C. App. 2, Section 10(d).

Meeting registration information can be completed at http://snacregister.samhsa.gov/MeetingList.aspx. Web conference and call information will be sent after completing registration. Meeting information and a roster of DTAB members may be obtained by accessing the SAMHSA Advisory Committees website, https://www.samhsa.gov/about-us/advisory-councils/meetings or by contacting the Designated Federal Officer, CAPT Sean J. Belouin, USPHS.

Committee Name: Substance Abuse and Mental Health Services Administration, Center for Substance Abuse Prevention, Drug Testing Advisory Board.

Dates/Time/Type: December 4, 2018, from 9:00 a.m. to 3:30 p.m. EST: Open; December 5, 2018, from 9:00 a.m. to 4:00 p.m. EST: Closed.

Place: Hilton Washington DC/Rockville Hotel & Executive Meeting Center, 1750 Rockville Pike, Rockville, MD 20852.

Contact: CAPT Sean J. Belouin, USPHS, Senior Pharmacology and Regulatory Policy Advisor, Division of Workplace Programs, 5600 Fishers Lane, Room 16N06D, Rockville, Maryland 20857, Telephone: (240) 276-2600, Email: sean.belouin@samhsa.hhs.gov.

Charles LoDico,
Chemist.

[FR Doc. 2018-25116 Filed 11-16-18; 8:45 am]

BILLING CODE 4162-20-P